DEPARTMENT OF HEALTH AND HUMAN SERVICES

Administration for Children and Families

Submission for Office of Management and Budget Review; Home-Based Child Care Toolkit for Nurturing School-Age Children Study (New Collection)

AGENCY: Office of Planning, Research, and Evaluation, Administration for Children and Families, United States Department of Health and Human Services.

ACTION: Request for public comments.

SUMMARY: The Administration for Children and Families (ACF) Office of Planning, Research, and Evaluation (OPRE) at the U.S. Department of Health and Human Services (HHS) is proposing to collect information to examine a toolkit of new measures designed to assess and strengthen the quality of child care, the Home-Based Child Care Toolkit for Nurturing School-Age Children (HBCC-NSAC Toolkit). This study aims to build evidence about the English version of the HBCC-NSAC Toolkit for use by/with providers caring for children in a residential setting (i.e., home-based child care [HBCC]).

DATES: Comments due within 30 days of publication. Office of Management and Budget (OMB) must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION:

Description: The HBCC-NSAC Toolkit is designed for home-based providers who regularly care for at least 1 school-age child who is not their own. The purpose of the HBCC-NSAC Toolkit is to help home-based providers identify their caregiving strengths and areas for growth. The HBCC-NSAC Toolkit consists of a self-administered provider questionnaire (composed of multiple newly developed measures) and a family communication questionnaire (composed of 1 communication tool). For validation purposes, the study will include the provider questionnaire from the HBCC-NSAC Toolkit with additional items from existing measures and a separate family survey with child and family background information items and items from an existing measure. A subset of providers will be observed with an existing observation measure. Study participants will include home-based providers who can complete the provider questionnaire in English. They must currently care for at least 1 school-age child (age 5 and in kindergarten, or ages 6 through 12) in a home for at least 10 hours per week and for at least 8 weeks in the past year. These providers may also care for younger children (ages birth through 5 and not yet in kindergarten). Families (a parent or guardian of school-age children receiving care in the HBCC setting) who can complete the family survey in English will also be included in the study. The study will be based on a purposive sample of home-based providers in at least 10 geographic locations to maximize variation in the sample. OPRE proposes to collect survey and observational data from home-based providers who are licensed or regulated by states to provide child care and early education (CCEE) and providers who are unlicensed or legally exempt from state regulations for CCEE. Study participants may or may not participate in the child care subsidy program. The data collection activities are designed to provide critical information that is needed to analyze the reliability and validity of the HBCC-NSAC Toolkit's provider questionnaire. The resulting data will help ACF understand if the HBCC-NSAC Toolkit's provider questionnaire can be used to support home-based providers in identifying and reflecting on their caregiving strengths and areas for growth.

Respondents: Home-based providers; families of the children cared for by the providers.

Annual Burden Estimates
Instrument | Number of respondents (total over request period) | Number of responses per respondent (total over request period) | Average burden per response (in hours) | Total/ annual burden (in hours)
1. Community organization onboarding call | 30 | 1 | 1 | 30
2. Provider telephone script and recruitment information collection | 204 | 1 | 0.33 | 67
3. Provider telephone script and recruitment information collection including observations | 150 | 1 | .42 | 63
4. Observation scheduling call | 60 | 1 | .17 | 10
5. HBCC-NSAC Toolkit provider questionnaire | 150 | 1 | .83 | 125
6. HBCC-NSAC Toolkit family questionnaire | 166 | 1 | 0.25 | 42

Estimated Total Annual Burden Hours: 337.

Authority: 42 U.S.C. 9858.

Mary B. Jones,
ACF/OPRE Certifying Officer.

[FR Doc. 2024-00006 Filed 1-4-24; 8:45 am]

BILLING CODE 4184-23-P